DEPARTMENT OF HEALTH AND HUMAN SERVICES

Centers for Medicare & Medicaid Services

[CMS-7028-N]

Medicare, Medicaid, and Children's Health Insurance Programs; Renewal of the Advisory Panel on Outreach and Education (APOE) and Request for Nominations

AGENCY: Centers for Medicare & Medicaid Services (CMS), HHS.

ACTION: Notice.

SUMMARY: This notice announces that the charter of the Advisory Panel on Outreach and Education (APOE) has been renewed. It also requests nominations for individuals to serve on the APOE.

DATES: Nominations will be considered if we receive them at the appropriate address, provided in the ADDRESSES section of this notice, no later than 5 p.m., Eastern Daylight Time (e.d.t.) on July 1, 2013.

ADDRESSES: Mail or deliver nominations to the following address: Kirsten Knutson, Acting Designated Federal Official, Office of Communications, CMS, 7500 Security Boulevard, Mail Stop S1-13-05, Baltimore, MD 21244-1850 or email to Kirsten.Knutson@cms.hhs.gov.

FOR FURTHER INFORMATION CONTACT: Kirsten Knutson, Acting Designated Federal Official, Office of Communications, CMS, 7500 Security Boulevard, Mail Stop S1-13-05, Baltimore, MD 21244, 410-786-5886, email kirsten.knutson@cms.hhs.gov or visit the Web site at http://www.cms.gov/Regulations-and-Guidance/Guidance/FACA/APOE.html. Press inquiries are handled through the CMS Press Office at (202) 690-6145.

SUPPLEMENTARY INFORMATION:

I. Background

The Advisory Panel on Medicare Education (the predecessor to the APOE) was created in 1999 to advise and make recommendations to the Secretary of Health and Human Services (the Secretary), and the Administrator of the Centers for Medicare & Medicaid Services (CMS) on the effective implementation of national Medicare education programs, including with respect to the Medicare+Choice (M+C) program added by the Balanced Budget Act of 1997 (Pub. L. 105-33).

The Medicare Modernization Act of 2003 (MMA) (Pub. L. 108-173) expanded the existing health plan options and benefits available under the M+C program and renamed it the Medicare Advantage (MA) program. We have had substantial responsibilities to provide information to Medicare beneficiaries about the range of health plan options available and better tools to evaluate these options. Successful MA program implementation required us to consider the views and policy input from a variety of private sector constituents and to develop a broad range of public-private partnerships.

In addition, the Secretary, and by delegation, the Administrator of CMS was authorized under Title I of MMA to establish the Medicare prescription drug benefit. The drug benefit allows beneficiaries to obtain qualified prescription drug coverage. In order to effectively administer the MA program and the Medicare prescription drug benefit, we have substantial responsibilities to provide information to Medicare beneficiaries about the range of health plan options and benefits available, and to develop better tools to evaluate these plans and benefits.

The Affordable Care Act (Patient Protection and Affordable Care Act, Pub. L. 111-148 and Health Care and Education Reconciliation Act of 2010, Pub. L. 111-152) enacted a number of changes to Medicare as well as to Medicaid and the Children's Health Insurance Program (CHIP), and also expanded the availability of other options for health care coverage. In order to effectively implement and administer these changes, we must provide information to Medicare, Medicaid, and CHIP consumers, providers and other stakeholders pursuant to education and outreach programs regarding how these programs will change and the expanded range of health coverage options available. The Advisory Panel on Outreach and Education allows us to consider a broad range of views and information from interested audiences in connection with this effort and to identify opportunities to enhance the effectiveness of education strategies concerning the Affordable Care Act.

II. Provisions of This Notice

A. Renewal of the APOE

Pursuant to the charter approved on January 21, 2013, the APOE was renewed. The APOE will advise the Department of Health and Human Services (DHHS) and CMS on developing and implementing education programs that support individuals with or who are eligible for Medicare, Medicaid, and the Children's Health Insurance Program (CHIP) about options for selecting health care coverage under these and other programs envisioned under health care reform to ensure improved access to quality care, including prevention services. The scope of this Federal Advisory Committee Act (FACA) group also includes advising on education of providers and stakeholders with respect to health care reform and certain provisions of the Health Information Technology for Economic and Clinical Health (HITECH) Act enacted as part of the American Recovery and Reinvestment Act of 2009 (ARRA).

The charter will terminate on January 21, 2015, unless renewed by appropriate action. The APOE was chartered under 42 U.S.C. 222 of the Public Health Service Act, as amended. The APOE is governed by provisions of Public Law 92-463, as amended (5 U.S.C. Appendix 2), which sets forth standards for the formation and use of advisory committees.

Pursuant to the renewed charter, the APOE will advise the Secretary of Health and Human Services and the CMS Administrator concerning optimal strategies for the following:

• Developing and implementing education and outreach programs for individuals enrolled in or eligible for Medicare, Medicaid, and CHIP.

• Enhancing the Federal government's effectiveness in informing the Medicare, Medicaid, and CHIP consumers, providers and stakeholders pursuant to education and outreach programs of issues regarding these and other health coverage programs, including the appropriate use of public-private partnerships to leverage the resources of the private sector in educating beneficiaries, providers and stakeholders.

• Expanding outreach to vulnerable and underserved communities, including racial and ethnic minorities, in the context of Medicare, Medicaid, and CHIP education programs.

• Assembling and sharing an information base of “best practices” for helping consumers evaluate health plan options.

• Building and leveraging existing community infrastructures for information, counseling and assistance.

• Drawing the program link between outreach and education, promoting consumer understanding of health care coverage choices, and facilitating consumer selection/enrollment; which in turn support the overarching goal of improved access to quality care, including prevention services, envisioned under health care reform.

B. Requests for Nominations

The APOE shall consist of no more than 20 members. The Chair shall either be appointed from among the 20 members, or a Federal official will be designated to serve as the Chair. The charter requires that meetings shall be held approximately four times per year. Members will be expected to attend all meetings. The members and the Chair shall be selected from authorities knowledgeable in one or more of the following fields:

• Senior citizen advocacy

• Outreach to minority communities

• Health communications

• Disease-related advocacy

• Disability policy and access

• Health economics research

• Health insurers and plans

• Health information technology (IT)

• Direct patient care

• Matters of labor and retirement

Representatives of the general public may also serve on the APOE.

This notice also announces that in July 2013, there will be 3 expired terms of membership and in October 2013, there will be an additional 3 expired terms of membership. This notice is an invitation to interested organizations or individuals to submit their nominations for membership for all six vacancies on the APOE (no self-nominations will be accepted). The CMS Administrator will appoint new members to the APOE from among those candidates determined to have the expertise required to meet specific agency needs, and in a manner to ensure an appropriate balance of membership. We have an interest in ensuring that the interests of both women and men, members of all racial and ethnic groups, and disabled individuals are adequately represented on the APOE. Therefore, we encourage nominations of qualified candidates who can represent these interests. Any interested organization or person may nominate one or more qualified persons.

Current members whose terms expire in 2013 may be considered for reappointment, subject to committee service guidelines.

Each nomination must include a letter stating that the nominee has expressed a willingness to serve as a Panel member and must be accompanied by a curricula vitae and a brief biographical summary of the nominee's experience.

While we are looking for experts in a number of fields, our most critical needs are for experts in Health IT, Tribal Affairs, Community Health Centers/Medically Underserved Populations, African-American Health/Disparities, Health/Disability/Quality and State Programs/Medicaid/Rural.

We are requesting that all curricula vitae include the following:

• Date of birth

• Place of birth

• Title and current position

• Professional affiliation

• Home and business address

• Telephone and fax numbers

• Email address

• List of areas of expertise

Phone interviews of nominees may also be requested after review of the nominations.

In order to permit an evaluation of possible sources of conflict of interest, potential candidates will be asked to provide detailed information concerning such matters as financial holdings, consultancies, and research grants or contracts.

Members are invited to serve for 2-year terms, contingent upon the renewal of the APOE by appropriate action prior to its termination. A member may serve after the expiration of that member's term until a successor takes office. Any member appointed to fill a vacancy for an unexpired term shall be appointed for the remainder of that term.

III. Copies of the Charter

The Secretary's Charter for the APOE is available on the CMS Web site at: http://www.cms.gov/Regulations-and Guidance/Guidance/FACA/APOE.html, or you may obtain a copy of the charter by submitting a request to the contact listed in the FOR FURTHER INFORMATION CONTACT section of this notice.

Authority: Sec. 222 of the Public Health Service Act (42 U.S.C. 217a) and sec. 10(a) of Pub. L. 92-463 (5 U.S.C. App. 2, sec. 10(a) and 41 CFR 102-3).

(Catalog of Federal Domestic Assistance Program No. 93.733, Medicare—Hospital Insurance Program; and Program No. 93.774, Medicare—Supplementary Medical Insurance Program)

Dated: May 23, 2013.
Marilyn Tavenner,
Administrator, Centers for Medicare & Medicaid Services.

[FR Doc. 2013-12957 Filed 5-30-13; 8:45 am]

BILLING CODE 4120-01-P